DEPARTMENT OF DEFENSE

GENERAL SERVICES ADMINISTRATION

NATIONAL AERONAUTICS AND SPACE ADMINISTRATION

[OMB Control No. 9000-0154; Docket No. 2018-0053; Sequence No. 2]

Submission for OMB Review; Construction Wage Rate Requirements—Price Adjustment (Actual Method)

AGENCY: Department of Defense (DOD), General Services Administration (GSA), and National Aeronautics and Space Administration (NASA).

ACTION: Notice.

SUMMARY: Under the provisions of the Paperwork Reduction Act, the Regulatory Secretariat Division will be submitting to the Office of Management and Budget (OMB) a request to review and approve an extension of a previously approved information collection requirement regarding the price adjustment (Actual Method) for Construction Wage Rate Requirements.

DATES: Submit comments on or before September 5, 2018.

ADDRESSES: Submit comments regarding this burden estimate or any other aspect of this collection of information, including suggestions for reducing this burden to: Office of Information and Regulatory Affairs of OMB, Attention: Desk Officer for GSA, Room 10236, NEOB, Washington, DC 20503. Additionally submit a copy to GSA by any of the following methods:

• Federal eRulemaking Portal: This website provides the ability to type short comments directly into the comment field or attach a file for lengthier comments. Go to http://www.regulations.gov and follow the instructions on the site.

• Mail: General Services Administration, Regulatory Secretariat Division (MVCB), 1800 F Street NW, Washington, DC 20405. ATTN: Ms. Mandell/IC 9000-0154, Construction Wage Rate Requirements—Price Adjustment (Actual Method).

Instructions: Please submit comments only and cite Information Collection 9000-0154, Construction Wage Rate Requirements—Price Adjustment (Actual Method), in all correspondence related to this collection. Comments received generally will be posted without change to http://www.regulations.gov, including any personal and/or business confidential information provided. To confirm receipt of your comment(s), please check www.regulations.gov, approximately two to three days after submission to verify posting (except allow 30 days for posting of comments submitted by mail).

FOR FURTHER INFORMATION CONTACT: Ms. Zenaida Delgado, Procurement Analyst, at telephone 202-969-7207, or email zenaida.delgado@gsa.gov.

SUPPLEMENTARY INFORMATION:

A. Purpose

Government contracting officers may include Federal Acquisition Regulation (FAR) clause 52.222-32, Construction Wage Rate Requirements—Price Adjustment (Actual Method), in fixed-price solicitations and contracts subject to the Construction Wage Rate Requirements statute under certain conditions. The conditions are that the solicitation or contract contains option provisions to extend the term of the contract and the contracting officer determines that the most appropriate method to adjust the contract price at option exercise is to use a computation method based on the actual increase or decrease from a new or revised Department of Labor Construction Wage Rate Requirements statute wage determination.

The clause requires that a contractor submit at the exercise of each option to extend the term of the contract, a statement of the amount claimed for incorporation of the most current wage determination by the Department of Labor, and any relevant supporting data, including payroll records, that the contracting officer may reasonably require. The information is used by Government contracting officers to establish the contract price adjustment for the construction requirements of a contract, generally if the contract requirements are predominantly services subject to the Service Contract Labor Standards statute.

B. Public Comment

A 60 day notice was published in the Federal Register at 83 FR 23278, on May 18, 2018. No comments were received.

C. Annual Reporting Burden

The Federal Procurement Data System (FPDS) indicates that 5,309 construction contractors in FY 2017 could potentially have had contracts with recurring options. However, we believe there are only approximately 10% of these that would contain the subject clause, since most would not have a price adjustment clause, and there are other FAR prescribed price adjustment clauses.

The estimated total burden is as follows:

Respondents: 531.

Responses per Respondent: 1.

Total Annual Responses: 531.

Hours per Response: 40.

Total Burden Hours: 21,240.

Affected Public: Businesses or other for-profit and not-for-profit institutions.

Frequency: Annually.

Obtaining Copies: Requesters may obtain a copy of the information collection documents from the General Services Administration, Regulatory Secretariat Division (MVCB), 1800 F Street NW, Washington, DC 20405, telephone 202-501-4755. Please cite OMB Control No. 9000-0154, Construction Wage Rate Requirements—Price Adjustment (Actual Method), in all correspondence.

William F. Clark,
Director, Office of Governmentwide Acquisition Policy, Office of Acquisition Policy, Office of Governmentwide Policy.

[FR Doc. 2018-16763 Filed 8-3-18; 8:45 am]

BILLING CODE 6820-EP-P